DEPARTMENT OF JUSTICE

National Institute of Corrections

Advisory Board; Notice of Meeting

This notice announces a forthcoming meeting of the National Institute of Corrections (NIC) Advisory Board. At least one portion of the meeting will be closed to the public.

Name of the Committee: NIC Advisory Board.

General Function of the Committee: To aid the National Institute of Corrections in developing long-range plans, advise on program development, and recommend guidance to assist NIC's efforts in the areas of training, technical assistance, information services, and policy/program development assistance to Federal, state, and local corrections agencies.

Date and Time: 8:00 a.m.-4:30 p.m. on Thursday, March 20, 2014.

Location: National Institute of Corrections, 500 First Street NW., 2nd Floor, Washington, DC 20534 (202) 514-4222.

Contact Person: Shaina Vanek, Executive Assistant, National Institute of Corrections, 320 First Street NW., Room 5002, Washington, DC 20534. To contact Ms. Vanek, please call (202) 514-4222.

Agenda: On March 20, 2014, the Advisory Board will hear updates on the following topics: (1) Agency Report from the NIC Acting Director, (2) updates from NIC division chiefs on current activities, (3) outcomes of the pilot test on private corrections access to eLearning modules on http://nicic.gov/LearningCenter and (4) collaboration and partnership with the Office of National Drug Control Policy.

Procedure: On March 20, 2014, from 8:00 a.m. until 4:30 p.m., the meeting is open to the public. Interested persons may present data, information, or views, orally or in writing, on issues pending before the committee. Written submissions may be made to the contact person on or before March 7, 2014. Oral presentations from the public will be scheduled between approximately 11:15 a.m. to 11:30 a.m. and 4:00 p.m. to 4:15 p.m. on March 20, 2014. Time allotted for each presentation may be limited. Those desiring to make formal oral presentations should notify the contact person and submit a brief statement of the general nature of the evidence or arguments they wish to present, the names and addresses of proposed participants, and an indication of the approximate time requested to make their presentation on or before March 7, 2014.

General Information: NIC welcomes the attendance of the public at its advisory committee meetings and will make every effort to accommodate persons with physical disabilities or special needs. If you require special accommodations due to a disability, please contact Shaina Vanek at least 7 days in advance of the meeting. Notice of this meeting is given under the Federal Advisory Committee Act (5 U.S.C. app. 2).

Robert M. Brown, Jr.,
Acting Director, National Institute of Corrections.

[FR Doc. 2014-03790 Filed 2-21-14; 8:45 am]

BILLING CODE 4410-36-M